Title 3—

The President

Proclamation 10034 of May 15, 2020

Armed Forces Day, 2020

By the President of the United States of America

A Proclamation

In times of war and peace alike, on land, at sea, in the skies, in cyberspace, and beyond the Earth's atmosphere, the men and women of our Nation's Armed Forces serve with honor and distinction and stand ready to selflessly defend our Nation. On Armed Forces Day, we pay tribute to these patriots, whose work enables our country to shine always as a beacon of freedom and hope for the world.

Throughout our Nation's history, our Armed Forces have protected our country, our liberty, and our founding principles. Earlier this month, we marked the 75th anniversary of Victory in Europe Day, when United States and Allied forces liberated Europe and North Africa from tyranny and oppression. The courageous actions of these heroes will stand always as monuments to the very best of our Nation. Today, many of our service members have been called into action on the home front to aid in our fight against a new type of enemy—the coronavirus. Our Guardsmen, engineers, logisticians, and medical service members have provided critical lifesaving treatment, protective equipment, facilities, and other vital services and provisions quickly and efficiently to those in need. In March, I was honored as Commander in Chief to salute those aboard the USNS Comfort as these heroes set sail from the shores of Norfolk, Virginia, to bring aid and comfort to people in need of care in New York, New Jersey, and Connecticut. As they have shown throughout this crisis, working to ease the burdens on healthcare workers and first responders, our Armed Forces can adapt to any challenge and succeed in any mission.

My Administration will always remain committed to ensuring our Nation has the strongest and most advanced military in the world. We owe it to our warriors to ensure that we provide them with the necessary training and equipment to meet current and future challenges. Since I took office, we have invested a historic $2.2 trillion in the United States military, purchasing the finest American-made planes, missiles, rockets, ships, and other pieces of military equipment. Additionally, last year, I was proud to sign into law legislation that provided a 3.1 percent pay raise for our troops—the largest pay raise for our military men and women in a decade—in recognition of their unparalleled duty, honor, courage, and commitment.

This year, we also celebrate the historic creation of the United States Space Force, the first new military branch since the establishment of the United States Air Force more than 70 years ago. We recognize that to combat the evolving threats of a 21st-century world, we must look to the newest warfighting domain and address malign activities in space. America's leadership in space is unparalleled, and with the addition of the United States Space Force, we are now even better positioned to meet the evolving threats in this emerging frontier of technology, exploration, and discovery. Approximately 16,000 military and civilian personnel have already been assigned to the Space Force, embarking on their mission to organize, train, and equip these new fighters responsible for protecting the United States and allied interests in the vast domain of space.

Today, and every day, we reaffirm our unwavering support for the millions of American patriots who fill the ranks of our Armed Forces. We are eternally grateful for every Soldier, Sailor, Airman, Marine, Coast Guardsman, and member of the Space Force, and we deeply appreciate the sacrifices their families and loved ones make on our behalf. As one Nation, we pledge to always honor this service and this devotion given to our great country.

NOW, THEREFORE, I, DONALD J. TRUMP, President of the United States of America, and Commander in Chief of the Armed Forces of the United States, continuing the tradition of my predecessors in office, do hereby proclaim the third Saturday of each May as Armed Forces Day.

I invite the Governors of the States and Territories and other areas subject to the jurisdiction of the United States, to provide for the observance of Armed Forces Day within their jurisdiction each year in an appropriate manner designed to increase public understanding and appreciation of the Armed Forces of the United States. I also invite veterans, civic, and other organizations to join in the observance of Armed Forces Day each year.

Finally, I call upon all Americans to display the flag of the United States at their homes and businesses on Armed Forces Day, and I urge citizens to learn more about military service by attending and participating in the local observances of the day.

Proclamation 9892 of May 17, 2019, is hereby superseded.

IN WITNESS WHEREOF, I have hereunto set my hand this fifteenth day of May, in the year of our Lord two thousand twenty, and of the Independence of the United States of America the two hundred and forty-fourth.

[FR Doc. 2020-10992

Filed 5-19-20; 8:45 am]

Billing code 3295-F0-P